DEPARTMENT OF LABOR

Employment and Training Administration

[TA-W-59,322]

Frame Builders Industries, Thomasville, NC; Notice of Termination of Investigation

Pursuant to section 221 of the Trade Act of 1974, as amended, an investigation was initiated on May 3, 2006, in response to a worker petition filed by a company official on behalf of workers at Frame Builders Industries, Thomasville, North Carolina.

The petitioner has requested that the petition be withdrawn. Consequently, the investigation has been terminated.

Signed at Washington, DC, this 15th day of June, 2006.
Richard Church,
Certifying Officer, Division of Trade Adjustment Assistance.

[FR Doc. E6-11090 Filed 7-13-06; 8:45 am]

BILLING CODE 4510-30-P